UNIFIED CARRIER REGISTRATION PLAN

Sunshine Act Meeting Notice; Unified Carrier Registration Plan Board Subcommittee Meeting

TIME AND DATE: February 20, 2020, from Noon to 3:00 p.m., Eastern time.

PLACE: This meeting will be accessible via conference call. Any interested person may call 1-866-210-1669, passcode 5253902#, to listen and participate in this meeting.

STATUS: This meeting will be open to the public.

MATTERS TO BE CONSIDERED: The Unified Carrier Registration Plan Education and Training Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—Executive Director

The UCR Executive Director will verify the publication of the meeting notice on the UCR website and in the Federal Register.

III. Review and Approval of Subcommittee Agenda and Setting of Ground Rules—Subcommittee Chair

For Discussion and Possible Subcommittee Action

The Subcommittee Agenda will be reviewed and the Subcommittee will consider adoption.

Ground Rules

➢ Subcommittee action only to be taken in designated areas on agenda.

➢ Please MUTE your phone.

➢ Please do not place the call on HOLD.

IV. Approval of Minutes from January 27, 2020 Meeting—UCR Operations Manager

• Draft minutes from the January 27, 2020 Education and Training Subcommittee meeting in San Antonio, Texas will be reviewed. The Subcommittee will consider action to approve.

V. Proposal for Education Modules—UCR Technology Director

The UCR Technology Director will review a proposal to develop each of the three education modules (Enforcement, UCR 101, and National Registration System), including format and budget. The Subcommittee will discuss and may take action to adopt the proposal within the allotted Fiscal Year 2020 budget for the UCR education program.

VI. Role of Subcommittee in Development of Modules—UCR Technology Director

The UCR Technology Director will lead a discussion on the need for assistance and guidance from the Subcommittee in the development of the modules.

VII. Planning for Education and Training Sessions at NCSTS Summer Meeting—Subcommittee Chair

The Subcommittee Chair will lead a discussion on the logistics and planning involved in the live education and training sessions to be held on June 9, 2020 in Portland, Oregon.

VIII. Other Items—Subcommittee Chair

The Subcommittee Chair will call for any other items the Subcommittee members would like to discuss.

IX. Adjourn—Subcommittee Chair

Chair will adjourn the meeting.

The agenda will be available no later than 5:00 p.m. Eastern time, February 12, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-03252 Filed 2-13-20; 4:15 pm]

BILLING CODE 4910-YL-P